NUCLEAR REGULATORY COMMISSION

[NRC-2017-0041]

Preparation of Environmental Reports for Nuclear Power Stations

AGENCY: Nuclear Regulatory Commission.

ACTION: Regulatory Guide; issuance.

SUMMARY: The U.S. Nuclear Regulatory Commission (NRC) is issuing Revision 3 of Regulatory Guide (RG) 4.2, “Preparation of Environmental Reports for Nuclear Power Stations.” This revision provides general guidance to applicants for the format and content of environmental reports (ERs) that are submitted as part of an application for a permit, license, or other approval for a new nuclear power plant.

DATES: Revision 3 to RG 4.2 is available on September 24, 2018.

ADDRESSES: Please refer to Docket ID NRC-2017-0041 when contacting the NRC about the availability of information regarding this document. You may obtain publicly-available information related to this document using any of the following methods:

• Federal Rulemaking Website: Go to http://www.regulations.gov and search for Docket ID NRC-2017-0041. Address questions about dockets IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. Revision 3 to RG 4.2 and the regulatory analysis may be found in ADAMS under Accession Nos. ML18071A400 and ML16116A067, respectfully.

• NRC's PDR: You may examine and purchase copies of public documents at the NRC's PDR, Room O1-F21, One White Flint North, 11555 Rockville Pike, Rockville, Maryland 20852.

FOR FURTHER INFORMATION CONTACT: Jennifer Davis, Office of New Reactors, telephone: 301-415-3835, email: Jennifer.Davis@nrc.gov and Edward O'Donnell, Office of Nuclear Regulatory Research, telephone: 301-415-3317, email: Edward.ODonnell@nrc.gov. Both are staff of the U.S. Nuclear Regulatory Commission, Washington, DC 20555-0001.

SUPPLEMENTARY INFORMATION:

I. Discussion

The NRC is issuing Revision 3 of RG 4.2, “Preparation of Environmental Reports for Nuclear Power Stations,” as a guide in the NRC's “Regulatory Guide” series. This series was developed to describe and make available to the public information regarding methods that are acceptable to the NRC staff for implementing specific parts of the NRC's regulations, techniques that the staff uses in evaluating specific problems or postulated events, and data that the staff needs from applicants in its review of applications for permits and licenses. The present guide dates to 1976, and an update was needed to align it with changes in NRC regulations since 1976, changes in environmental statutes and regulations, and Executive Orders. Consequently the guide was updated to provide general guidelines for the preparation of environmental reports supporting an application for a permit, license, or other approval for a new nuclear power plant. The information requested from applicants in this RG is based on the requirements contained in part 51 of title 10 of the Code of Federal Regulations (10 CFR), “Environmental Protection Regulations for Domestic Licensing and Related Regulatory Functions.” Guidance from the interim staff guidance, as it relates to information that applicants should include in an environmental report, was incorporated into this RG, as appropriate. The entirety of interim staff guidance will be terminated when it is incorporated into permanent staff guidance in consistent with staff guidance such as NUREG-1555, “Environmental Standard Review Plan: Standard Review Plans for Environmental Reviews for Nuclear Power Plants” (ADAMS Accession Nos. ML003702134 and ML003701937).

II. Additional Information

The NRC published a notice of the availability of the proposed revision, temporarily identified by draft regulatory guide (DG) number, DG-4026 for public comment in the Federal Register on February 13, 2017 (82 FR 10502) for a 60-day period. The public comment period was extended to May 31, 2017 (82 FR 15544), based upon a request from the Nuclear Energy Institute. The staff responses to the public comments are available under ADAMS under Accession No. ML18071A401.

III. Congressional Review Act

This RG is a rule as defined in the Congressional Review Act (5 U.S.C. 801-808). However, the Office of Management and Budget has not found it to be a major rule as defined in the Congressional Review Act.

IV. Backfitting and Issue Finality

Issuance of this RG does not constitute backfitting as defined in 10 CFR 50.109 (the Backfit Rule), nor would it be regarded as backfitting under Commission and Executive Director for Operations guidance, and is not otherwise inconsistent with the issue finality provisions in 10 CFR part 52.

Dated at Rockville, Maryland, this 19th day of September 2018.
For the Nuclear Regulatory Commission.
Thomas H. Boyce,
Chief, Regulatory Guidance and Generic Issues Branch, Division of Engineering, Office of Nuclear Regulatory Research.

[FR Doc. 2018-20699 Filed 9-21-18; 8:45 am]

BILLING CODE 7590-01-P